DEPARTMENT OF TRANSPORTATION

Federal Aviation Administration

14 CFR Part 71

[Docket No. FAA-2025-5147; Airspace Docket No. 25-AEA-17]

RIN 2120-AA66

Amendment of Class D and Class E4 Airspace Over Wilkes-Barre, PA

AGENCY: Federal Aviation Administration (FAA), DOT.

ACTION: Final rule.

SUMMARY: This action amends Class D and Class E4 airspace at Wilkes-Barre/Scranton International Airport, Wilkes-Barre, PA, due to the currently designated airspace not properly containing instrument flight rule (IFR) operations, which require controlled airspace. This action also updates the geographic coordinates of the airport and language related to the hours of operation of the air traffic control tower within the airspace legal descriptions.

DATES: Effective 0901 UTC, May 14, 2026. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours a day, 365 days a year. An electronic copy of this document may also be downloaded from www.federalregister.gov.

FAA Order JO 7400.11K, Airspace Designations and Reporting Points, as well as subsequent amendments, can be viewed online at www.faa.gov/air_traffic/publications/. For further information, you may also contact the Rules and Regulations Group, Policy Directorate, Federal Aviation Administration, 600 Independence Avenue SW, Washington, DC 20597; Telephone: (202) 267-8783.

FOR FURTHER INFORMATION CONTACT: Marc Ellerbee, Operations Support Group, Eastern Service Center, Federal Aviation Administration, 1701 Columbia Avenue, College Park, GA 30337; Telephone: (404) 305-5589.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D and Class E4 airspace in Wilkes-Barre, PA.

History

The FAA published an NPRM for Docket No. FAA-2025-5147 in the Federal Register (90 FR 52901; November 24, 2025), proposing to amend Class D and Class E4 airspace and above Wilkes-Barre, PA. Interested parties were invited to participate in this rulemaking effort by submitting written comments on the proposal to the FAA. One comment was received from the Citizens Rulemaking Alliance.

Overall, the comment and accompanying petition are not applicable to the proposed airspace action; however, the following explanations are provided.

The comment and accompanying petition requested that the FAA either withdraw the final rule and issue an NPRM, or that the FAA delay the effective date, and supplement the record. The comment was written as if the FAA had already issued a final rule, but, in fact, the FAA had only issued an NPRM. The FAA provided a 45-day comment period. The comment and petition were submitted in response to the NPRM during this 45-day comment period. The FAA is only now proceeding to a final rule in this action. Therefore, the comment is largely unrelated and irrelevant to this action.

The petition objects to bypassing notice and comment as part of its confusion regarding the phase of rulemaking. However, the FAA did not bypass notice and comment on any aspect of this action. As explained, the comment was submitted during the aforementioned comment period. When the FAA elects to bypass notice and comment for all or part of an airspace action, it conducts a thorough review of the action and surrounding circumstances to determine whether good cause exists for doing so pursuant to 5 U.S.C. 553(b)(B). No such analysis was necessary here, though, as the FAA did not bypass notice and comment.

The petition requests more detailed discussion regarding the FAA's analyses under the Regulatory Flexibility Act and Executive Order (E.O.) 12866. The FAA has met its legal obligations for this action under the aforementioned authorities and declines the petition's requests.

Additionally, the petition recommends that the FAA publish a comparison table of the airspace legal description, before-and-after maps, and GIS shapefiles providing a comparative description of the changes to the airspace. The comment also requests that the FAA identify the instrument procedures that motivated the change.

The FAA has no specific legal duty to provide the requested comparative materials, and they are not routinely provided unless the airspace changes are unusually complex and an expanded explanation of the changes is necessary to allow for meaningful comment. In this case, the airspace change is relatively straightforward. The changes to the airspace legal description are also explained in detail both within the NPRM and this final rule.

Incorporation by Reference

Class D and Class E4 airspace designations are published in paragraphs 5000 and 6004 of FAA Order JO 7400.11, Airspace Designations and Reporting Points, which is incorporated by reference in 14 CFR 71.1 on an annual basis. This document amends the latest version of that order, FAA Order JO 7400.11K, dated August 4, 2025, and effective September 15, 2025. These amendments will be published in the next update to FAA Order JO 7400.11. FAA Order JO 7400.11K, which lists Class A, B, C, D, and E airspace areas, air traffic service routes, and reporting points, is publicly available as listed in the ADDRESSES section of this document.

The Rule

This action amends 14 CFR part 71 by modifying the Class D and Class E4 airspace for Wilkes-Barre/Scranton International Airport, Wilkes-Barre, PA. Controlled airspace is necessary for the safety and management of IFR operations in the area for existing instrument approach procedures.

This action amends the Class D airspace over Wilkes-Barre, PA, by updating the Wilkes-Barre/Scranton International Airport geographic coordinates and increasing the lateral boundary of the Class D airspace from a 4.1-mile radius of the airport to a 4.2-mile radius of the airport for better containment of IFR procedures.

This action also amends the Class E4 airspace over Wilkes-Barre, PA, by modifying the dimensions from the current configuration to that airspace extending upward from the surface within 2 miles each side of a 033° bearing from Wilkes-Barre/Scranton International Airport extending from the 4.2-mile radius to 9.4 miles northeast of the airport, and within 1 mile either side of a 214° bearing from the airport extending from the 4.2-mile radius to 7.3 miles southwest of the airport. This reconfiguration properly contains the currently published standard instrument approach procedures.

This action also removes the language in the Wilkes-Barre, PA, Class E4 Airspace legal description that indicates a part-time status, as the control tower is in operation 24 hours a day.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this proposed rule, when promulgated, does not have a significant economic impact on a substantial number of small entities under the criteria of the Regulatory Flexibility Act.

Environmental Review

The FAA has determined that this action qualifies for categorical exclusion under the National Environmental Policy Act in accordance with FAA Order 1050.1G, “FAA National Environmental Policy Act Implementing Procedures” paragraph B-2.5(a). This airspace action is not expected to cause any potentially significant environmental impacts, and no extraordinary circumstances exist that warrant the preparation of an environmental assessment.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11K, Airspace Designations and Reporting Points, dated August 4, 2025, and effective September 15, 2025, is amended as follows:

Paragraph 5000 Class D Airspace.

* * * * *

AEA PA D Wilkes-Barre, PA [Amended]

Wilkes-Barre/Scranton International Airport, PA

(Lat. 41°20′19″ N, long. 75°43′24″ W)

That airspace extending upward from the surface to and including 3,500 feet MSL within a 4.2-mile radius of Wilkes-Barre/Scranton International Airport.

* * * * *

Paragraph 6004 Class E Airspace Designated as an Extension to a Class D Surface Area.

* * * * *

AEA PA E4 Wilkes-Barre, PA [Amended]

Wilkes-Barre/Scranton International Airport, PA

(Lat. 41°20′19″ N, long 75°43′24″ W)

That airspace extending upward from the surface within 2 miles each side of a 033° bearing from Wilkes-Barre/Scranton International Airport extending from the 4.2-mile radius to 9.4 miles northeast of the airport, and within 1 mile either side of a 214° bearing from the airport extending from the 4.2-mile radius to 7.3 miles southwest of the airport.

* * * * *

Issued in College Park, Georgia, on January 20, 2026.
Patrick Young,
Manager, Airspace & Procedures Team North, Eastern Service Center, Air Traffic Organization.

[FR Doc. 2026-01172 Filed 1-21-26; 8:45 am]

BILLING CODE 4910-13-P